DEPARTMENT OF HEALTH AND HUMAN SERVICES

[Document Identifier: OS-0990-New]

[60-day Notice]

Agency Information Collection Request; 60-Day Public Comment Request

AGENCY: Office of the Secretary, HHS.

ACTION: Notice.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: - OS Think Cultural Health -OMB No. 0990-NEW- The Office of Minority Health (OMH)

Abstract: The Office of Minority Health (OMH), Office of the Secretary (OS), Department of Health and Human Services (DHHS) is requesting approval from OMB for the Think Cultural Health (TCH) Web site. The Web site is used to post information such as cultural competency, language access and health disparities articles, and notices of health disparities conferences for visitors to the site. The TCH Web site is unlike other government sites, in that it offers users the ability to gain cultural health competency credits through on-line training and resources in addition to offering users the option of receiving a newsletter.

It supports the Office of Minority Health within the Office of the Secretary of the Department of Health and Human Services (HHS/OS/OMH) in complying with the cultural competency requirements of the Patient Protection and Affordable Care Act of 2010 (ACA) (P.L.111-148), as well as the Secretary's Plan to Reduce Racial and Ethnic Health Disparities, the National Stakeholder Strategy for Achieving Health Equity, Healthy People 2020, the Secretary's Strategic Plan priorities, and the Assistant Secretary for Health's Public Health Quality agenda.

Estimated Annualized Burden Table
Form name | Type of respondent | Number of respondents | Number of responses per respondent | Average burden per response (hours) | Total burden (hours)
Think Cultural Health Registration Form | Physician | 27477 | 1 | 3/60 | 1,373.85
| Nurse | 44723 | 1 | 3/60 | 2,236.15
| Physician Assistant | 1882 | 1 | 3/60 | 94.10
| Dentist | 377 | 1 | 3/60 | 18.85
| Dental Professional | 39 | 1 | 3/60 | 1.95
| Social Worker | 1733 | 1 | 3/60 | 86.65
| Public Health | 186 | 1 | 3/60 | 9.30
| General Healthcare Worker | 12635 | 1 | 3/60 | 631.75
| Psychologist/Psychiatrist | 189 | 1 | 3/60 | 9.45
| Mental Health Professional | 180 | 1 | 3/60 | 9.00
| Pharmacist, RPH | 750 | 1 | 3/60 | 37.50
| Emergency Medical Technician | 492 | 1 | 3/60 | 24.60
| Administrator or Hospital Executive | 151 | 1 | 3/60 | 7.55
| Policymaker or Public Official | 17 | 1 | 3/60 | 0.85
| Teacher | 424 | 1 | 3/60 | 21.20
| Lawyer | 107 | 1 | 3/60 | 5.35
| Bachelors | 3753 | 1 | 3/60 | 187.65
| Masters | 4063 | 1 | 3/60 | 203.15
| Doctorate | 1130 | 1 | 3/60 | 56.50
| Student | 7504 | 1 | 3/60 | 375.20
| Other | 10880 | 1 | 3/60 | 544.00
Total | 118692 | 1 | 3/60 | 5,934.60

Keith A. Tucker,
Office of the Secretary, Paperwork Reduction Act Clearance Officer.

[FR Doc. 2012-17489 Filed 7-18-12; 8:45 am]

BILLING CODE 4150-29-P